ENVIRONMENTAL PROTECTION AGENCY

[ER-FR1-6682-8]

Environmental Impact Statements and Regulations; Availability of EPA Comments

Availability of EPA comments prepared pursuant to the Environmental Review Process (ERP), under section 309 of the Clean Air Act and Section 102(2)(c) of the National Environmental Policy Act as amended. Requests for copies of EPA comments can be directed to the Office of Federal Activities at 202-564-7167. An explanation of the ratings assigned to draft environmental impact statements (EISs) was published in FR dated April 7, 2006 (71 FR 17845).

Draft EISs

EIS No. 20060373, ERP No. D-BLM-K65319-CA, Sierra Resource Management Plan, Provide Direction for Managing Public Lands, Several Counties, CA.

Summary: EPA expressed environmental concern about impacts to water quality and aquatic habitat, and to public health from exposure to naturally occurring asbestos. Rating EC2.

EIS No. 20060418, ERP No. D-FHW-L40231-WA, East Lake Sammamish Master Plan Trail, Design and Construct an Alternative Non-Motorized Transportation and Multi-Use Recreational Trail, Funding and U.S. Army COE Section 404 Permit, King County, WA.

Summary: EPA does not object to the proposed project. EPA does recommend including additional information in the EIS regarding BMPs, a vegetation management plan, and water quality monitoring. Rating LO.

Final EISs

EIS No. 20060468, ERP No. F-NPS-K61159-CA, Sequoia and Kings Canyon National Parks, General Management Plan, Middle and South Forks of the Kings River and North Forks of the Kern River, General Management Plan, Tulare and Fresno Counties, CA.

Summary: EPA does not object to this project.

EIS No. 20060473, ERP No. F-FHW-H40189-MO, Interstate 29/35 Paseo Bridge Corridor, Reconstruct and Widen I-29/35, Missouri River, North Kansas City and Kansas City, Clay and Jackson Counties, MO.

Summary: EPA does not object to the proposed project. EPA does recommended that additional information be obtained about populations within the project area potentially sensitive to mobile source air toxics.

EIS No. 20060483, ERP No. F-UAF-K11021-GU, Andersen Air Force Base (AFB), Establish and Operate an Intelligence, Surveillance, Reconnaissance, and Strike (ISR/Strike) Capability, Guam.

Summary: EPA continues to have concerns about cumulative environmental impacts and direct impacts to endangered species.

EIS No. 20060484, ERP No. F-NAS-A12042-00, Mars Science Laboratory Mission (MSL), To Conduct Comprehensive Science on the Surface of Mars and Demonstrate Technological Advancements in the Exploration of Mars, Using a Radioisotope Power Source in 2009 from Cape Canaveral Air Force Station, FL.

Summary: EPA does not object to the proposed action.

Dated: December 29, 2006.
Clifford Rader,
Environmental Protection Specialist, Office of Federal Activities.

[FR Doc. E6-22618 Filed 1-4-07; 8:45 am]

BILLING CODE 6560-50-P